DEPARTMENT OF HOMELAND SECURITY

Federal Emergency Management Agency

44 CFR Part 65

[Docket No. FEMA-B-7440]

Changes in Flood Elevation Determinations

AGENCY: Federal Emergency Management Agency (FEMA), Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified Base Flood Elevations for new buildings and their contents.

DATES: These modified BFEs are currently in effect on the dates listed in the table below and revise the Flood Insurance Rate Maps in effect prior to this determination for each listed community.

From the date of the second publication of these changes in a newspaper of local circulation, any person has ninety (90) days in which to request through the community that the Mitigation Division Director for the Emergency Preparedness and Response Directorate reconsider the changes. The modified elevations may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by the other Federal, State, or regional entities.

The changes in are in accordance with 44 CFR 65.4.

National Environmental Policy Act. This rule is categorically excluded from the requirements of 44 CFR part 10, Environmental Consideration. No environmental impact assessment has been prepared.

Regulatory Flexibility Act. The Mitigation Division Director for the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case no. | Date and name of newspaper where notice was published | Chief executive officer of community | Effective date of modificaiton | Community number
Arizona:
Maricopa | Town of Gila Bend, (02-09-807P), (02-09-857P) | August 7, 2003, August 14, 2003, Arizona Business Gazette | The Honorable Chuck Turner, Mayor, Town of Gila Bend, P.O. Box A, Gila Bend, Arizona 85337 | Nov. 13, 2003 | 040043
Maricopa | City of Phoenix, (03-09-0522P) | August 7, 2003, August 14, 2003, Arizona Business Gazette | The Honorable Skip Rimsza, Mayor, City of Phoenix, 200 West Washington Street, 11th Floor, Phoenix, Arizona 85003 | Nov. 13, 2003 | 040051
Maricopa | City of Scottsdale, (03-09-0482P) | July 24, 2003, July 31, 2003, Arizona Business Gazette | The Honorable Mary Manross, Mayor, City of Scottsdale, 3939 North Drinkwater Boulevard, Scottsdale, Arizona 85251 | Oct. 23, 2003 | 045012
Maricopa | Unincorporated Areas, (02-09-807P), (02-09-857P) | August 7, 2003, August 14, 2003, Arizona Business Gazette | The Honorable R. Fulton Brock, Chairman, Maricopa County, Board of Supervisors, 301 West Jefferson, 10th Floor, Phoenix, Arizona 85003 | Nov. 13, 2003 | 040037
Maricopa | Unincorporated Areas, (02-09-1240P) | August 7, 2003, August 14, 2003, Arizona Republic | The Honorable R. Fulton Brock, Chairman, Maricopa County, Board of Supervisors, 301 West Jefferson, 10th Floor, Phoenix, Arizona 85003 | Nov. 13, 2003 | 040037
Pima | Unincorporated Areas, (01-09-407P) | July 24, 2003, July 31, 2003, Tucson Citizen | The Honorable Sharon Bronson, Chair, Pima County Board of Supervisors, 130 West Congress, 11th Floor, Tucson, Arizona 85701 | June 30, 2003 | 040073
Yavapai | Town of Prescott Valley, (03-09-0757P) | July 31, 2003, August 7, 2003, Prescott Daily Courier | The Honorable Richard Killingsworth, Mayor, Town of Prescott Valley, Civic Center, 7501 East Civic Circle, Prescott Valley, Arizona 86314 | Nov. 6, 2003 | 040121
California:
Contra Costa | City of Concord, (03-09-0859P) | September 4, 2003, September 11, 2003, Contra Costa Times | The Honorable Mark Peterson, Mayor, City of Concord, Concord City Hall, 1950 Parkside Drive, Concord, California 94519 | Aug. 11, 2003 | 065022
Contra Costa | City of Richmond, (03-09-1116P) | September 18, 2003, September 25, 2003, Contra Costa Times | The Honorable Irma Anderson, Mayor, City of Richmond, 2600 Barrett Avenue, Third Floor, Richmond, California 94804 | Aug. 27, 2003 | 060035
Mendocino | City of Ukiah, (03-09-0317P) | October 2, 2003, October 9, 2003, Ukiah Daily Journal | The Honorable Eric Larson, Mayor, City of Ukiah, 300 Seminary Avenue, Ukiah, California 95482 | Sept. 11, 2003 | 060186
Mendocino | Unincorporated Areas, (03-09-0317P) | October 2, 2003, October 9, 2003, Ukiah Daily Journal | The Honorable Richard Shoemaker, Chairman, Mendocino County, Board of Supervisors, 501 Low Gap Road, Room 1090, Ukiah, California 95482 | Sept. 11, 2003 | 060183
Riverside | City of Temecula, (02-09-1356P) | July 31, 2003, August 7, 2003, Press Enterprise | The Honorable Jeff Stone, Mayor, City of Temecula, P.O. Box 9033, Temecula, California 92589-9033 | Nov. 6, 2003 | 060742
Sacramento | Unincorporated Areas, (03-09-0432P) | August 7, 2003, August 14, 2003, Daily Recorder | The Honorable Illa Collin, Chair, Sacramento County, Board of Supervisors, 700 H Street, Room 2450, Sacramento, California 95814 | July 21, 2003 | 060262
San Bernardino | City of Yucaipa, (03-09-0821P) | September 18, 2003, September 25, 2003, San Bernardino County Sun | The Honorable Dick Riddell, Mayor, City of Yucaipa, 34272 Yucaipa Boulevard, Yucaipa, California 92399 | Sept. 2, 2003 | 060739
San Diego | City of San Diego, (03-09-1057P) | August 14, 2003, August 21, 2003, San Diego Daily Transcript | The Honorable Richard M. Murphy, Mayor, City of San Diego, 202 C Street, 11th Floor, San Diego, California 92101 | Nov. 20, 2003 | 060295
San Diego | City of San Diego, (03-09-0450P) | September 18, 2003, September 25, 2003, San Diego Union-Tribune | The Honorable Richard M. Murphy, Mayor, City of San Diego, 202 C Street, 11th Floor, San Diego, California 92101 | Aug. 21, 2003 | 060295
Santa Barbara | City of Santa Barbara, (01-09-220P) | October 9, 2003, October 16, 2003, Santa Barbara News Press | The Honorable Marty Blum, Mayor, City of Santa Barbara, P.O. Box 1990, Santa Barbara, California 93102-1990 | Jan. 15, 2004 | 060335
Ventura | City of Fillmore, (02-09-927P) | July 31, 2003, August 7, 2003, Fillmore Gazette | The Honorable Evaristo Barajas, Mayor, City of Fillmore, City Hall, Central Park Plaza, 250 Central Avenue, Fillmore, California 93015-1907 | Nov. 7, 2003 | 060415
Ventura | Unincorporated Areas, (02-09-927P) | July 31, 2003, August 7, 2003, Fillmore Gazette | The Honorable Judy Mikels, Chair, Ventura County, Board of Supervisors, 800 South Victoria Avenue, Ventura, California 93009 | Nov. 7, 2003 | 060413
Colorado:
Arapahoe | Unincorporated Areas, (03-08-0362P) | August 14, 2003, August 21, 2003, Denver Post | The Honorable Marie Mackenzie, Chair, Arapahoe County, Board of Commissioners, 5334 South Prince Street, Littleton, Colorado 80166-0060 | July 24, 2003 | 08001
Denver | City and County of Denver, (03-08-0362P) | August 14, 2003, August 21, 2003, Denver Post | The Honorable John W. Hickenlooper, Mayor, City and County of Denver, 1437 Bannock Street, Suite 350, Denver, Colorado 80202 | July 24, 2003 | 080046
El Paso | City of Colorado Spriongs, (03-08-0212P) | August 14, 2003, August 21, 2003, The Gazette | The Honorable Lionel Rivera, Mayor, City of Colorado Springs, P.O. Box 1575, Colorado Springs, Colorado 80901-1575 | Oct. 9, 2003 | 080060
El Paso | City of Colorado Springs, (01-08-177P) | October 9, 2003, October 16, 2003, The Gazette | The Honorable Lionel Rivera, Mayor, City of Colorado Springs, P.O. Box 1575, Colorado Springs, Colorado 80901-1575 | Jan. 15, 2004 | 080060
El Paso | Unincorporated Areas, (03-08-0385P) | August 20, 2003, August 27, 2003, El Paso County News | The Honorable Chuck Brown, Chairman, El Paso County, Board of Commissioners, 27 East Vermijo Avenue, Colorado Springs, Colorado 80903-2208 | Nov. 26, 2004 | 080059
El Paso | Unincorporated Areas, (01-08-177P) | October 9, 2003, October 16, 2003, The Gazette | The Honorable Chuck Brown, Chairman, El Paso County, Board of Commissioners, 27 East Vermijo Avenue, Colorado Springs, Colorado 80903-2208 | Jan. 15, 2004 | 080059
Jefferson | City of Lakewood, (03-08-0167P) | June 19, 2003, August 7, 2003, Lakewood Sentinel | The Honorable Steve Burkholder, Mayor, City of Lakewood, 480 South Allison Parkway, Lakewood, Colorado 80226-3127 | Sept. 25, 2003 | 085075
Hawaii: Hawaii | Hawaii County, (03-09-0853P) | August 7, 2003, August 14, 2003, Hawaii Tribune Herald | The Honorable Harry Kim, Mayor, Hawaii County, 25 Aupuni Street, Hilo, Hawaii 96720 | July 15, 2003 | 155166
Idaho: Gem | Unincorporated Areas, (03-10-0299P) | August 31, 2003, September 7, 2003, Idaho Press Tribune | The Honorable Ed Mansfield, Chairman, Gem County, Board of Commissioners, 415 East Main Street, Emmett, Idaho 83617 | Dec. 4, 2003 | 160127
Nevada: Clark | Unincorporated Areas, (03-09-1569P) | October 2, 2003, October 9, 2003, Las Vegas Review-Journal | The Honorable Mary Kincaid-Chauncey, Chair, Clark County, Board of Commissioners, 500 South Grand Central Parkway, Las Vegas, Nevada 89155 | Sept. 11, 2003 | 320003
Texas: Collin | City of Frisco, (01-06-1415P) | August 8, 2003, August 15, 2003, Frisco Enterprise | The Honorable Mike Simpson, Mayor, City of Frisco, 6891 Main Street, Frisco, Texas 75034 | Nov. 14, 2003 | 480134
Washington:
Thurston | City of Olympia, (03-10-0337P) | September 18, 2003, September 25, 2003, The Olympian | The Honorable Stan Biles, Mayor, City of Olympia, P.O. Box 1967, Olympia, Washington 98507-1967 | Dec. 26, 2003 | 530191
Thurston | City of Tumwater, (03-10-0337P) | September 18, 2003, September 25, 2003, The Olympian | The Honorable Ralph C. Osgood, Mayor, City of Tumwater, 555 Israel Road Southwest, Tumwater, Washington 98501 | Dec. 26, 2003 | 530192
Thurston | Unincorporated Areas, (03-10-0337P) | September 18, 2003, September 25, 2003, The Olympian | The Honorable Cathy Wolfe, Chair, Thurston County, Board of Commissioners, Building 1, Room 269, 2000 Lakeridge Drive Southwest, Olympia, Washington 98502-6045 | Dec. 26, 2003 | 530188

(Catalog of Federal Domestic Assistance No. 83.100, “Flood Insurance”)
Dated: November 18, 2003.
Anthony S. Lowe,
Mitigation Division Director, Emergency Preparedness and Response Directorate.

[FR Doc. 03-29354 Filed 11-24-03; 8:45 am]

BILLING CODE 9110-13-P